DEPARTMENT OF VETERANS AFFAIRS

[OMB Control No. 2900-0784]

Agency Information Collection Activity: Application for Pre-Need Determination of Eligibility for Burial

AGENCY: National Cemetery Administration, Department of Veterans Affairs.

ACTION: Notice.

SUMMARY: In compliance with the Paperwork Reduction Act (PRA) of 1995, this notice announces that the National Cemetery Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0784.

FOR FURTHER INFORMATION CONTACT: Maribel Aponte, Office of Enterprise and Integration, Data Governance Analytics (008), 810 Vermont Ave. NW, Washington, DC 20006, (202) 266-4688 or email maribel.aponte@va.gov. Please refer to “OMB Control No. 2900-0784” in any correspondence.

SUPPLEMENTARY INFORMATION:

Authority: 38 U.S.C. 2402.

Title: Application for Pre-Need Determination of Eligibility for Burial, VA Form 40-10007.

OMB Control Number: 2900-0784.

Type of Review: Extension of a currently approved collection.

Abstract: This information (VA Form 40-10007) is needed to collect information from Veterans and service members who wish to determine their eligibility for burial in a VA national cemetery prior to their time of need for planning purposes. The data will be used for this purpose.

An agency may not conduct or sponsor, and a person is not required to respond to a collection of information unless it displays a currently valid OMB control number. The Federal Register Notice with a 60-day comment period soliciting comments on this collection of information was published at 87 FR 74213, December 2, 2022.

Affected Public: Individuals or households.

Estimated Annual Burden: 15,800 hours.

Estimated Average Burden per Respondent: 20 minutes.

Frequency of Response: One-time.

Estimated Number of Respondents: 47,400.

By direction of the Secretary.
Dorothy Glasgow,
VA PRA Clearance Officer (Alt), Office of Enterprise and Integration/Data Governance Analytics, Department of Veterans Affairs.

[FR Doc. 2023-02304 Filed 2-2-23; 8:45 am]

BILLING CODE 8320-01-P